DEPARTMENT OF HOUSING AND URBAN DEVELOPMENT

[Docket No. FR-5690-N-17]

60-Day Notice of Proposed Information Collection: Capital Fund Community and Education Training Facilities

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information for Applicant/Tenant's Consent to the Release of Information and the Authorization for the Release of Information/Privacy Act Notice. The purpose of this notice is to allow for 60 days of public comment.

DATES: Comments Due Date: February 18, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Capital Fund Education and Training Community Facilities.

OMB Approval Number: 2577-0268.

Type of Request: Revision of a currently approved collection.

Form Number: HUD-27061, HUD-50075.1.

Description of the need for the information and proposed use: The Department of Housing and Urban Development awarded grant funds to 19 Public Housing Authorities (PHAs) in 2010 and 2011 for the development of facilities to provide early childhood education, adult education, and/or job training programs for public housing residents based on an identified need. These facilities will offer comprehensive, integrated supportive services to help public housing residents achieve better educational and economic outcomes resulting in long-term economic self-sufficiency. This collection of information will enable HUD to determine if the PHAs are making efficient use of the funds awarded.

Respondents (i.e. affected public): Individuals or households, State, Local, or Tribal Government.

Estimated Annual Reporting and Recordkeeping Burden
Form/document | Number of respondents | Frequency | Total responses | Hours per response | Total hours | Cost per hour | Total cost
Two-page summary of development activity | 19 | 1 | 19 | .5 | 9.5 | $40.58 | $385.50
HUD-27061 | 19 | 1 | 19 | 0.25 | 4.75 | 40.58 | 192.75
HUD-50075.1 | 19 | 1 | 19 | 0.25 | 4.75 | 40.58 | 192.75
Totals |  |  | 19 | 1.00 | 19 |  | 771.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35 as amended.

Dated: December 6, 2013.
Merrie Nichols-Dixon,
Deputy Director, Office of Policy, Programs and Legislative Initiatives.

[FR Doc. 2013-30083 Filed 12-17-13; 8:45 am]

BILLING CODE 4210-67-P